DEPARTMENT OF HEALTH AND HUMAN SERVICES

National Vaccine Advisory Committee

AGENCY: Office of the Secretary, HHS.

ACTION: Notice of meeting.

SUMMARY: As stipulated by the Federal Advisory Committee Act, the Department of Health and Human Services (DHHS) is hereby giving notice that the National Vaccine Advisory Committee (NVAC) will hold a meeting. The meeting is open to the public.

DATES: The meeting will be held on October 7, 2003, from 9 a.m. to 5 p.m., and on October 8, 2003, from 8:30 a.m. to 3:15 p.m.

ADDRESSES: Department of Health and Human Services; Room 705A Humphrey Building; 200 Independence Avenue, SW., Washington, DC 20201.

FOR FURTHER INFORMATION CONTACT: Ms. Carolin Commodore, Staff Assistant, National Vaccine Program Office and Executive Secretary, National Vaccine Advisory Committee; U.S. Department of Health and Human Services, Room 725H Hubert H. Humphrey Building, 200 Independence Avenue, SW., Washington, DC 20201; (202) 260-1253.

SUPPLEMENTARY INFORMATION: Pursuant to Section 2101 of the Public Service Act (42 U.S.C. 300aa-1), the Secretary of Health and Human Services was mandated to establish the National Vaccine Program (NVP) to achieve optimal prevention of human infectious diseases through immunization and to achieve optimal prevention against adverse reactions to vaccines. The Secretary designated the Assistant Secretary for Health to serve as the Director, NVP. The National Vaccine Advisory Committee (NVAC) was established to provide advice and make recommendations to the Director, NVP, on matters related to the program's responsibilities. Topics to be discussed at the meeting include: The Institute of Medicine's (IOM) vaccine safety reviews and the recent IOM report on vaccine financing; a status report on the nation's smallpox vaccine program, and an overview of the SARS vaccine research and development at the National Institutes of Health (NIH). Updates will be given on activities at the NIH's Vaccine Research Center, pandemic influenza preparedness planning, and a status report on the West Nile virus vaccine. A tentative agenda will be made available for review on the NVPO Web site.

Public attendance at the meeting is limited to space available. Individuals must provide a photo ID for entry into the Humphrey Building. Individuals who plan to attend and need special assistance, such as sign language interpretation or other reasonable accommodations, should notify the designated contact person. Members of the public will have the opportunity to provide comments at the meeting. Public comment will be limited to five minutes per speaker. Any members of the public who wish to have printed material distributed to NVAC members should submit materials to the Executive Secretary, NVAC, whose contact information is listed above prior to close of business October 3, 2003. Preregistration is required for both public attendance and comment. Any individual who wishes to attend the meeting and/or participate in the public comment session should call the telephone number listed in the contact information to register.

The National Vaccine Program Office will be organizationally relocated to the Office of Public Health and Science on October 1. Due to administrative matters impacting this organizational relocation, this notice is being published less than 15 days in advance of the meeting.

Dated: September 24, 2003.
Bruce G. Gellin,
Director, National Vaccine Program Office and Executive Secretary, National Vaccine Advisory Committee.

[FR Doc. 03-24797 Filed 9-29-03; 8:45 am]

BILLING CODE 4150-28-P